DEPARTMENT OF TRANSPORTATION

Federal Aviation Administration

[Summary Notice No. PE-2006-16]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before June 19, 2006.

ADDRESSES: You may submit comments [identified by DOT DMS Docket Number FAA-2006-24622, FAA-2006-24623, FAA-2006-24714, and FAA-2006-24742] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: John Linsenmeyer (202) 267-5174 or Sue Lender (202) 267-8029, Office of Rulemaking (ARM-1), Federal Aviation Administration, 800 Independence Avenue, SW., Washington, DC 20591.

This notice is published pursuant to 14 CFR 11.85 and 11.91.

Issued in Washington, DC, on May 22, 2006.
Anthony F. Fazio,
Director, Office of Rulemaking.

Petitions for Exemption

Docket No.: FAA-2006-24622.

Petitioner: Experimental Aircraft Association (EAA), Inc.

Section of 14 CFR Affected: 14 CFR 45.27(e)

Description of Relief Sought: To allow alternative placement of nationality and registration marks for powered parachute and weight-shift control aircraft, such as on a horizontal or vertical structural component.

Docket No.: FAA-2006-24623.

Petitioner: Experimental Aircraft Association (EAA), Inc.

Section of 14 CFR Affected: 14 CFR 47.3(b), 61.3, 61.45(a), 91.203(a)(1), and 91.203(b).

Description of Relief Sought: To allow owners and operators of ultralight vehicles to operate under the provisions of 14 CFR part 103 while completing registration, certification, and maintenance tasks for those ultralight vehicles. The exemption, if granted, would also permit operations under 14 CFR part 103 while completing airman certification tasks.

Docket No.: FAA-2006-24714.

Petitioner: San Diego Police.

Section of 14 CFR Affected: 14 CFR 45.29(b)(3).

Description of Relief Sought: To allow the San Diego Police to operate Eurocopter AS350B3 aircraft using nationality and registration marks that are smaller than 12 inches tall.

Docket No.: FAA-2006-24742.

Petitioner: Experimental Aircraft Association (EAA), Inc.

Section of 14 CFR Affected: 14 CFR 43.3(g) and 43.7 (f) and (h).

Description of Relief Sought: To allow holders of sport pilot and recreational pilot airman certificates to perform preventive maintenance on type certificated aircraft.

[FR Doc. E6-8295 Filed 5-26-06; 8:45 am]

BILLING CODE 4910-13-P